DEPARTMENT OF ENERGY

Federal Energy Regulatory Commission

[Docket No. CP15-521-001]

Gulf LNG Liquefaction Company, LLC; Notice of Request for Extension of Time

Take notice that on February 22, 2024, Gulf LNG Liquefaction Company, LLC (GLLC); Gulf LNG Energy, LLC (GLE); and Gulf LNG Pipeline, LLC (collectively, the Applicants) requested that the Federal Energy Regulatory Commission (Commission) grant an extension of time, until July 16, 2029, to construct and place into service its Export Terminal Facilities Project (Project) located in Jackson County, Mississippi as authorized in the Order Granting Authorization under section 3 of the Natural Gas Act (Order).¹ The Order required the Applicants to complete construction of the Project and make it available for service within five years of the date of the Order, or by July 16, 2024.

¹ Gulf LNG Liquefaction Company, LLC, et al., 168 FERC ¶ 61,020 (2019).

The Applicants state that global events, including the COVID-19 pandemic, made construction of large-scale infrastructure projects and execution of international commercial agreements challenging. In addition, GLE asserts that it has been in complex litigation with its existing import customers over the scope and status of their terminal use agreements, which has hampered GLLC's ability to execute off-take contracts.

GLLC states that it has been actively progressing the Project and obtained nearly all required Federal, State, and local authorizations and permits related to the construction and operation of the Project. GLLC asserts that these authorizations and permits have been maintained, remain valid, and remain in full force and effect. GLLC states that the remaining required permits may be obtained once consultations with the respective agencies are renewed.

This notice establishes a 15-calendar day intervention and comment period deadline. Any person wishing to comment on the Applicants' request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (NGA) (18 CFR 157.10).

As a matter of practice, the Commission itself generally acts on requests for extensions of time to complete construction for NGA facilities when such requests are contested before order issuance. For those extension requests that are contested,² the Commission will aim to issue an order acting on the request within 45 days.³ The Commission will address all arguments relating to whether the applicant has demonstrated there is good cause to grant the extension.⁴ The Commission will not consider arguments that re-litigate the issuance of the certificate order, including whether the Commission properly found the project to be in the public convenience and necessity and whether the Commission's environmental analysis for the certificate complied with the National Environmental Policy Act (NEPA).⁵ At the time a pipeline requests an extension of time, orders on certificates of public convenience and necessity are final and the Commission will not re-litigate their issuance.⁶ The Director of the Office of Energy Projects, or his or her designee, will act on all of those extension requests that are uncontested.

² Contested proceedings are those where an intervenor disputes any material issue of the filing. 18 CFR 385.2201(c)(1).

³ Algonquin Gas Transmission, LLC, 170 FERC ¶ 61,144, at P 40 (2020).

⁴ Id. at P 40.

⁵ Similarly, the Commission will not re-litigate the issuance of an NGA section 3 authorization, including whether a proposed project is not inconsistent with the public interest and whether the Commission's environmental analysis for the permit order complied with NEPA.

⁶ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. Public access to records formerly available in the Commission's physical Public Reference Room, which was located at the Commission's headquarters, 888 First Street NE, Washington, DC 20426, are now available via the Commission's website. For assistance, contact FERC at FERCOnlineSupport@ferc.gov or call toll free, (866) 208-3676 or TTY (202) 502-8659.

The Commission strongly encourages electronic filings of comments in lieu of paper using the “eFile” link at http://www.ferc.gov. In lieu of electronic filing, you may submit a paper copy which must reference the Project docket number.

To file via USPS: Debbie-Anne A. Reese, Acting Secretary, Federal Energy Regulatory Commission, 888 First Street NE, Washington, DC 20426.

To file via any other courier: Debbie-Anne A. Reese, Acting Secretary, Federal Energy Regulatory Commission, 12225 Wilkins Avenue, Rockville, Maryland 20852.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Comment Date: 5 p.m. eastern time on March 19, 2024.

Dated: March 4, 2024.
Debbie-Anne A. Reese,
Acting Secretary.

[FR Doc. 2024-05021 Filed 3-8-24; 8:45 am]

BILLING CODE 6717-01-P